DEPARTMENT OF STATE

[Public Notice 4298]

Bureau of Nonproliferation; Foreign Assistance Act: Determinations

AGENCY: Department of State.

ACTION: Determination under the Foreign Assistance Act.

Pursuant to section 654(c) of the Foreign Assistance Act of 1961, as amended, notice hereby is given that the Deputy Secretary of State has made a determination pursuant to section 620H of the Foreign Assistance Act of 1961, as amended and section 543 of the Foreign Operations, Export Financing, and Related Programs Appropriations, Division E, of the Consolidated Appropriations Resolution, 2003 (H.J. Res. 2, Pub. L. 108-7), and similar provisions in previous annual Foreign Operations, Export Financing and Related Programs Appropriations Acts, and Executive Order 12163, as amended, and has concluded that publication of the determination would be harmful to the national security of the United States.

Dated: March 5, 2003.
John S. Wolf,
Assistant Secretary of State for Nonproliferation, Department of State.

[FR Doc. 03-5764 Filed 3-10-03; 8:45 am]

BILLING CODE 4710-27-P